DEPARTMENT OF COMMERCE

International Trade Administration

[A-588-857]

Welded Large Diameter Line Pipe From Japan: Final Results of the Expedited Fourth Sunset Review of the Antidumping Duty Order

AGENCY: Enforcement and Compliance, International Trade Administration, Department of Commerce.

SUMMARY: The U.S. Department of Commerce (Commerce) finds that revocation of the antidumping duty (AD) order on welded large diameter line pipe (line pipe) from Japan would be likely to lead to continuation or recurrence of dumping at the levels indicated in the “Final Results of Sunset Review” section of this notice.

DATES: Applicable January 3, 2025.

FOR FURTHER INFORMATION CONTACT: Janaé Martin, AD/CVD Operations, Office VI, Enforcement and Compliance, International Trade Administration, U.S. Department of Commerce, 1401 Constitution Avenue NW, Washington, DC 20230; telephone: (202) 482-0238.

SUPPLEMENTARY INFORMATION:

Background

On December 6, 2001, Commerce published the AD order on line pipe from Japan.¹ On September 3, 2024, Commerce published the notice of initiation of the fourth sunset review of the Order, pursuant to section 751(c)(2) of the Tariff Act of 1930, as amended (the Act).² On September 18, 2024, Commerce received a notice of intent to participate in this review from American Cast Iron Pipe Company, Berg Pipe Panama City Corp./Berg Pipe Mobile Corp., Dura-Bond Industries, Stupp Corporation, and Welspun Tubular LLC, individually and as members of the American Line Pipe Producers Association (ALPPA) (collectively, domestic interested parties) within the deadline specified in 19 CFR 351.218(d)(1)(i).³ The domestic interested parties claimed interested party status under sections 771(9)(C) and (F) of the Act, as manufacturers of a domestic like product in the United States, and as an association of such manufacturers.⁴ On September 25, 2024, Commerce notified the U.S. International Trade Commission (ITC) that it received a notice of intent to participate from the domestic interested parties, and that the sunset review would continue.⁵

¹ See Antidumping Duty Order: Welded Large Diameter Line Pipe from Japan, 66 FR 63368 (December 6, 2001) (Order).

² See Initiation of Five-Year (Sunset) Reviews, 89 FR 71252 (September 3, 2024).

³ See Domestic Interested Parties' Letter, “Notice of Intent to Participate,” dated September 18, 2024.

⁴ Id.

⁵ See Commerce's Letter, “Sunset Reviews Initiated on September 3, 2024,” dated September 25, 2024.

On October 3, 2024, we received a complete substantive response for this review from the domestic interested parties within the 30-day deadline specified in 19 CFR 351.218(d)(3)(i).⁶ We received no substantive responses from any other interested parties, nor was a hearing requested. On October 31, 2024, Commerce notified the ITC that it did not receive an adequate substantive response from any respondent interested parties.⁷ As a result Commerce conducted an expedited (120-day) sunset review of the Order, pursuant to section 751(c)(3)(B) of the Act and 19 CFR 351.218(e)(1)(ii)((C)(2).

⁶ See Domestic Interested Parties' Letter, “Substantive Response to the Notice of Initiation of Sunset Review,” dated October 3, 2024.

⁷ See Commerce's Letter, “Sunset Reviews Initiated on September 3, 2024,” dated October 31, 2024.

Scope of the Order

The merchandise covered by this Order is line pipe. For a complete description of the scope of the Order, see the Issues and Decision Memorandum.⁸

⁸ See Memorandum, “Issues and Decision Memorandum for the Expedited Fourth Sunset Review of the Antidumping Duty Order on Welded Large Diameter Line Pipe from Japan,” dated concurrently with, and hereby adopted by, this notice (Issues and Decision Memorandum).

Analysis of Comments Received

A complete discussion of all issues raised in this sunset review, including the likelihood of continuation or recurrence of dumping and the magnitude of the margin of dumping likely to prevail if the Order were to be revoked, is provided in the accompanying Issues and Decision Memorandum.⁹ A list of topics discussed in the Issues and Decision Memorandum is included as the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁹ Id.

Final Results of Sunset Review

Pursuant to sections 751(c)(1) and 752(c)(1) and (3) of the Act, Commerce determines that revocation of the Order would likely to lead to continuation or recurrence of dumping, and that the magnitude of the margin of dumping likely to prevail would be up to 30.80 percent.

Administrative Protective Order (APO)

This notice serves as the only reminder to parties subject to an APO of their responsibility concerning the disposition of proprietary information disclosed under APO in accordance with 19 CFR 351.305(a), which continues to govern business proprietary information in this segment of the proceeding. Timely written notification of the return or destruction of APO materials or conversion to judicial protective order is hereby requested. Failure to comply with the regulations and the terms of an APO is a sanctionable violation.

Notification to Interested Parties

Commerce is issuing and publishing these results and notice in accordance with sections 751(c), 752(c), and 777(i)(1) of the Act and 19 CFR 351.218(e)(1)(ii)(C)(2) and 19 CFR 351.221(c)(5)(ii).

Dated: December 27, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2024-31593 Filed 1-2-25; 8:45 am]

BILLING CODE 3510-DS-P